DEPARTMENT OF TRANSPORTATION

Federal Aviation Administration

14 CFR Part 39

[Docket No. FAA-2013-1064; Directorate Identifier 2012-NM-101-AD; Amendment 39-17991; AD 2014-20-18]

RIN 2120-AA64

Airworthiness Directives; Airbus Airplanes

AGENCY: Federal Aviation Administration (FAA), Department of Transportation (DOT).

ACTION: Final rule.

SUMMARY: We are superseding Airworthiness Directive (AD) 2005-23-08 for certain Airbus Model A300 B4-605R and B4-622R airplanes; Model A300 F4-605R airplanes; and Model A300 C4-605R Variant F airplanes. AD 2005-23-08 required repetitive inspections to detect cracks of certain attachment holes, installation of new fasteners, follow-on inspections or repair if necessary, and modification of the angle fittings of fuselage frame FR47. This new AD adds new repetitive ultrasonic inspections for cracks of the center wing box lower panel; and repair if necessary. This new AD also removes certain airplanes from the applicability. This AD was prompted by reports of cracks found on the horizontal flange of the Frame 47 internal corner angle fitting while accomplishing the modification required by AD 2005-23-08. We are issuing this AD to detect and correct fatigue cracking of the forward fitting of fuselage frame FR47, which could result in reduced structural integrity of the frame.

DATES: This AD becomes December 11, 2014.

The Director of the Federal Register approved the incorporation by reference of certain publications listed in this AD as of December 11, 2014.

The Director of the Federal Register approved the incorporation by reference of certain other publications listed in this AD as of December 19, 2005 (70 FR 69056, November 14, 2005).

The Director of the Federal Register approved the incorporation by reference of a certain other publication listed in this AD as of July 8, 2002 (67 FR 38193, June 3, 2002).

ADDRESSES: You may examine the AD docket on the Internet at http://www.regulations.gov/#!docketDetail;D=FAA-2013-1064; or in person at the Docket Management Facility, U.S. Department of Transportation, Docket Operations, M-30, West Building Ground Floor, Room W12-140, 1200 New Jersey Avenue SE., Washington, DC.

For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

FOR FURTHER INFORMATION CONTACT: Dan Rodina, Aerospace Engineer, International Branch, ANM-116, Transport Airplane Directorate, FAA, 1601 Lind Avenue SW., Renton, WA 98057-3356; telephone: (425) 227-2125; fax: (425) 227-1149.

SUPPLEMENTARY INFORMATION:

Discussion

We issued a notice of proposed rulemaking (NPRM) to amend 14 CFR part 39 to supersede AD 2005-23-08, Amendment 39-14366 (70 FR 69056, November 14, 2005). AD 2005-23-08 applied to certain Model A300 B4-601, B4-603, B4-620, and B4-622 airplanes; Model A300 B4-605R and B4-622R airplanes; Model A300 F4-605R airplanes; and Model A300 C4-605R Variant F airplanes. The NPRM published in the Federal Register on December 26, 2013 (78 FR 78285).

The European Aviation Safety Agency (EASA), which is the Technical Agent for the Member States of the European Community, has issued EASA Airworthiness Directive 2012-0092, dated May 25, 2012; Correction dated June 4, 2012 (referred to after this as the Mandatory Continuing Airworthiness Information, or “the MCAI”); to correct an unsafe condition for the specified products. The MCAI states:

Prompted by cracks found on the Frame 47 angle fitting, DGAC France published AD 2000-533-328 [http://ad.easa.europa.eu/ad/F-2000-533-328R1] to require [a] repetitive inspection programme for fuselage frame 47. If not detected and corrected, these cracks could affect the structural integrity of the Centre Wing Box (CWB) of the aeroplane.

Subsequent to the publication of a new repetitive inspection programme for fuselage frame 47 at certain fasteners of the CWB angle fitting, DGAC France issued AD F-2004-159 [http://ad.easa.europa.eu/ad/F-2004-159] [which corresponds to AD 2005-23-08, Amendment 39-14366 (70 FR 69056, November 14, 2005)], superseding AD 2000-533-328.

After DGAC France AD F-2004-159 was issued, cracks were reportedly found on the horizontal flange of the Frame 47 internal corner angle fitting during accomplishment of routine maintenance structural inspection and modification in accordance with Airbus SB A300-57-6050.

Prompted by these findings, Airbus reviewed and amended the inspection programme for the internal lower angle fitting flange (horizontal face). The inspection programme for the lower angle fitting web (vertical face) related to SB A300-57-6049 and internal lower angle fitting modification programme related to SB A300-57-6050 remain unchanged.

For the reasons explained above, this new [EASA] AD retains the requirements of DGAC France AD F-2004-159, which is superseded, and requires additional repetitive [ultrasonic] inspections [for cracks] of the CWB lower panel through the ultrasonic method and, depending on findings, [e.g., repair] re-installation of removed fasteners in transition fit instead of interference.

This [EASA] AD has been republished to correct a typographical error * * *.

The repetitive interval for the new ultrasonic inspection is either 1,260 flight cycles or 2,720 flight hours, whichever occurs first; or 1,360 flight cycles or 2,200 flight hours, whichever occurs first; depending on average flight time of the airplane. You may examine the MCAI in the AD docket on the Internet at http://www.regulations.gov/#!documentDetail;D=FAA-2013-1064-0002.

Comments

We gave the public the opportunity to participate in developing this AD. The following presents the comments received on the NPRM (78 FR 78285, December 26, 2013) and the FAA's response to each comment.

Requests To Remove Requirement To Refer to This AD in Repair Approvals

Airlines for America, Inc. (A4A), on behalf of seven affected member airlines, requested that we revise paragraphs (m)(1), (m)(2), and (o)(2) of the NPRM (78 FR 78285, December 26, 2013) to remove the requirement to include the AD reference in repair approvals. The commenters have made this request because the proposed requirement is overly broad and would add significant cost and complexity to their operations. The commenters were concerned that this proposed requirement would set a precedent for how repairs are approved, and could negatively affect all U.S. operators of foreign-manufactured airplanes.

We concur with the commenters' request to remove from this AD the requirement that repair approvals must specifically refer to this AD.

Since late 2006, we have included a standard paragraph titled “Airworthy Product” in all MCAI ADs in which the FAA develops an AD based on a foreign authority's AD. The MCAI or referenced service information in an FAA AD often directs the owner/operator to contact the manufacturer for corrective actions, such as a repair. Briefly, the Airworthy Product paragraph allowed owners/operators to use corrective actions provided by the manufacturer if those actions were FAA-approved. In addition, the paragraph stated that any actions approved by the State of Design Authority (or its delegated agent) are considered to be FAA-approved.

In the NPRM (78 FR 78285, December 26, 2013), we proposed to prevent the use of repairs that were not specifically developed to correct the unsafe condition, by requiring that the repair approval provided by the State of Design Authority or its delegated agent specifically refer to this FAA AD. This change was intended to clarify the method of compliance and to provide operators with better visibility of repairs that are specifically developed and approved to correct the unsafe condition. In addition, we proposed to change the phrase “its delegated agent” to include “the Design Approval Holder (DAH) with a State of Design Authority's design organization approval (DOA)” to refer to a DAH authorized to approve required repairs for the proposed AD.

One commenter to the NPRM (78 FR 78285, December 26, 2013), United Parcel Service (UPS), stated the following: “The proposed wording, being specific to repairs, eliminates the interpretation that Airbus messages are acceptable for approving minor deviations (corrective actions) needed during accomplishment of an AD mandated Airbus service bulletin.”

This comment has made the FAA aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed that paragraph and retitled it “Contacting the Manufacturer.” This paragraph now clarifies that for any requirement in this AD to obtain corrective actions from a manufacturer, the actions must be accomplished using a method approved by the FAA, EASA, or Airbus's EASA DOA.

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility afforded previously by the Airworthy Product paragraph. Consistent with long-standing FAA policy, such flexibility was never intended for required actions. This is also consistent with the recommendation of the AD Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

Other commenters pointed out that in many cases the foreign manufacturer's service bulletin and the foreign authority's MCAI may have been issued some time before the FAA AD. Therefore, the DOA may have provided U.S. operators with an approved repair, developed with full awareness of the unsafe condition, before the FAA AD is issued. Under these circumstances, to comply with the FAA AD, the operator would be required to go back to the manufacturer's DOA and obtain a new approval document, adding time, and expense to the compliance process with no safety benefit.

Based on these comments, we removed from this AD the requirement that the DAH-provided repair specifically refer to this AD. Before adopting such a requirement in the future, the FAA will coordinate with affected DAHs and verify they are prepared to implement means to ensure that their repair approvals consider the unsafe condition addressed in the AD. Any such requirements will be adopted through the normal AD rulemaking process, including notice-and-comment procedures, when appropriate.

We have also decided not to include a generic reference to either the “delegated agent” or the “DAH with State of Design Authority design organization approval” for new requirements, but instead we will provide the specific delegation approval granted by the State of Design Authority for the DAH.

Request To Revise Costs of Compliance

One commenter, FedEx, requested assurance that two inspections (the rotating probe of the attachment holes of the horizontal flange of the internal corner angle fitting, and the ultrasonic inspection of the aft bottom panel of the center wing box) specified in the NPRM (78 FR 78285, December 26, 2013) are to be conducted as two separate inspections at two separate thresholds and intervals. FedEx observed that both inspections are contained in the same service information, and that these two inspections appear to be combined in the Costs of Compliance paragraph of the NPRM. FedEx requested that the estimated costs be presented separately for the two inspection actions, and added that the Costs of Compliance paragraph should specify 4 work-hours for the new ultrasonic inspection.

We agree to clarify the Costs of Compliance paragraph. There are two inspection actions (rotating probe and ultrasonic inspections) identified in Airbus Service Bulletin A300-57-6086, Revision 05, dated January 30, 2012, and these are listed separately in the Costs of Compliance paragraph. The second row of the table in the Costs of Compliance paragraph should reflect the costs for the rotating probe inspections identified in Airbus Service Bulletin A300-57-6086, Revision 05, dated January 30, 2012; we have revised the second row of the table in the Costs of Compliance paragraph accordingly. We have also revised the fourth row of the table in the Costs of Compliance paragraph to refer to Airbus Service Bulletin A300-57-6086, Revision 05, dated January 30, 2012, to reflect costs for the new ultrasonic inspection.

In addition, we agree with FedEx that the ultrasonic inspection takes 4 work-hours, as specified in Airbus Service Bulletin A300-57-6086, Revision 05, dated January 30, 2012. In addition, Airbus Service Bulletin A300-57-6086, Revision 05, dated January 30, 2012, specifies 12 work-hours for access and close procedures. Therefore, we have revised the work-hours for the ultrasonic inspection specified in the fourth row of the table in the Costs of Compliance paragraph from 35 to 16 work-hours.

Conclusion

We reviewed the available data, including the comments received, and determined that air safety and the public interest require adopting this AD with the changes described previously and minor editorial changes. We have determined that these changes:

• Are consistent with the intent that was proposed in the NPRM (78 FR 78285, December 26, 2013) for correcting the unsafe condition; and

• Do not add any additional burden upon the public than was already proposed in the NPRM (78 FR 78285, December 26, 2013).

We also determined that these changes will not increase the economic burden on any operator or increase the scope of this AD.

Costs of Compliance

We estimate that this AD affects 65 airplanes of U.S. registry.

We estimate the following costs to comply with this AD:

Estimated Costs
Action | Work hours | Average labor rate per hour | Parts | Cost per airplane
Inspection for attachment holes on internal angles [retained action from AD 2005-23-08, Amendment 39-14366 (70 FR 69056, November 14, 2005)] | 13 | $85 | $0 | $1,105.
Rotating probe inspections for attachment holes in the horizontal flange (specified in Airbus Service Bulletin A300-57-6086, Revision 05, dated January 30, 2012) [retained action from AD 2005-23-08, Amendment 39-14366 (70 FR 69056, November 14, 2005)] | 30 | 85 | Between $6,637 and $19,091 | Between $9,187 and $21,641 per inspection cycle.
Modification [retained action from AD 2005-23-08, Amendment 39-14366 (70 FR 69056, November 14, 2005)] | Between 65 and 365 | 85 | $3,370 | Between $8,895 and $34,395.
New ultrasonic inspections of the aft bottom panel of the center wing box (specified in Airbus Service Bulletin A300-57-6086, Revision 05, dated January 30, 2012) | 16 | 85 | Between $11,750 and $18,720 | Between $13,110 and $20,080 per inspection cycle.

We have received no definitive data that would enable us to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-1064; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2005-23-08, Amendment 39-14366 (70 FR 69056, November 14, 2005), and adding the following new AD:

2014-20-18 Airbus: Amendment 39-17991. Docket No. FAA-2013-1064; Directorate Identifier 2012-NM-101-AD.

(a) Effective Date

This AD becomes effective December 11, 2014.

(b) Affected ADs

This AD replaces AD 2005-23-08, Amendment 39-14366 (70 FR 69056, November 14, 2005).

(c) Applicability

This AD applies to Airbus Model B4-603, B4-620, and B4-622 airplanes; Model A300 B4-605R and B4-622R airplanes; Model A300 F4-605R airplanes; and Model A300 C4-605R Variant F airplanes; certificated in any category; except airplanes on which Airbus Modification 12171 or 12249 has been embodied in production, or on which Airbus Service Bulletin A300-57-6069 has been embodied in service.

(d) Subject

Air Transport Association (ATA) of America Code 57: Wings.

(e) Reason

This AD was prompted by reports of cracks found on the horizontal flange of the Frame 47 internal corner angle fitting while accomplishing the modification required by AD 2005-23-08, Amendment 39-14366 (70 FR 69056, November 14, 2005). We are issuing this AD to detect and correct fatigue cracking of the forward fitting of fuselage frame FR47, which could result in reduced structural integrity of the frame.

(f) Compliance

You are responsible for having the actions required by this AD performed within the compliance times specified, unless the actions have already been done.

(g) Retained Inspections for Attachment Holes on the Internal Angles of the Wing Center Box, and Corrective Action

This paragraph restates the requirements of paragraphs (f), (g), and (h) of AD 2005-23-08, Amendment 39-14366 (70 FR 69056, November 14, 2005), with revised service information. Perform a rotating probe inspection to detect cracking of the applicable attachment holes on the left and right internal angles of the wing center box in accordance with the Accomplishment Instructions of Airbus Service Bulletin A300-57-6049, Revision 06, dated July 15, 2004; or Airbus Service Bulletin A300-57-6049, Revision 07, dated December 22, 2006. Do the inspection at the applicable time specified by paragraph 1.E.(2), Accomplishment Timescale, of Airbus Service Bulletin A300-57-6049, Revision 06, dated July 15, 2004; except as required by paragraph (j) of this AD. Repeat the rotating probe inspection specified in this paragraph thereafter at intervals not to exceed the applicable interval specified in Airbus Service Bulletin A300-57-6049, Revision 06, dated July 15, 2004, except that all touch-and-go landings must be counted in determining the total number of flight cycles between consecutive inspections. As of the effective date of this AD, only Airbus Service Bulletin A300-57-6049, Revision 07, dated December 22, 2006, may be used to accomplish the actions required by this paragraph.

(1) If no cracking is found during any inspection required by paragraph (g) of this AD: Prior to further flight, install new fasteners in accordance with the Accomplishment Instructions of Airbus Service Bulletin A300-57-6049, Revision 06, dated July 15, 2004; or Airbus Service Bulletin A300-57-6049, Revision 07, dated December 22, 2006. As of the effective date of this AD, only Airbus Service Bulletin A300-57-6049, Revision 07, dated December 22, 2006, may be used to accomplish the actions required by this paragraph.

(2) If any cracking is found during any inspection required by paragraph (g) of this AD: Prior to further flight, perform applicable corrective actions (including reaming, drilling, drill-stopping holes, chamfering, performing follow-on inspections, and installing new or oversize fasteners), in accordance with the Accomplishment Instructions of Airbus Service Bulletin A300-57-6049, Revision 06, dated July 15, 2004; or Airbus Service Bulletin A300-57-6049, Revision 07, dated December 22, 2006; except as required by paragraph (k) of this AD. As of the effective date of this AD, only Airbus Service Bulletin A300-57-6049, Revision 07, dated December 22, 2006, may be used to accomplish the actions required by this paragraph.

(h) Retained Inspections for Attachment Holes in the Horizontal Flange of the Internal Corner Angle Fitting of Fuselage Frame FR47, and Corrective Action

This paragraph restates the requirements of paragraphs (i), (j), and (k) of AD 2005-23-08, Amendment 39-14366 (70 FR 69056, November 14, 2005), with revised service information. Perform a rotating probe inspection to detect cracking of the applicable attachment holes in the horizontal flange of the internal corner angle fitting of fuselage frame FR47, in accordance with the Accomplishment Instructions of Airbus Service Bulletin A300-57-6086, Revision 01, dated April 2, 2002; or Airbus Service Bulletin A300-57-6086, Revision 05, dated January 30, 2012. Do the inspection at the applicable time specified in paragraph 1.E., Compliance, of Airbus Service Bulletin A300-57-6086, Revision 01, dated April 2, 2002, except as provided by paragraph (j) of this AD; or within 1,500 flight cycles after July 8, 2002 (the effective date of AD 2002-11-04, Amendment 39-12765 (67 FR 38193, June 3, 2002)); whichever occurs later. Repeat the rotating probe inspection specified in this paragraph thereafter at intervals not to exceed the applicable interval specified in Airbus Service Bulletin A300-57-6086, dated June 6, 2000, except that all touch-and-go landings must be counted in determining the total number of flight cycles between consecutive inspections. As of the effective date of this AD, only Airbus Service Bulletin A300-57-6086, Revision 05, dated January 30, 2012, may be used to accomplish the actions required by this paragraph.

(1) If no cracking is found during any inspection required by paragraph (h) of this AD: Prior to further flight, install new fasteners in accordance with the Accomplishment Instructions of Airbus Service Bulletin A300-57-6086, Revision 01, dated April 2, 2002; or Airbus Service Bulletin A300-57-6086, Revision 05, dated January 30, 2012. As of the effective date of this AD, only Airbus Service Bulletin A300-57-6086, Revision 05, dated January 30, 2012, may be used to accomplish the actions required by this paragraph.

(2) If any cracking is found during any inspection required by paragraph (h) of this AD: Prior to further flight, perform applicable corrective actions (including inspecting hole T if any cracking is found at hole G, reaming the holes, and installing oversize fasteners), in accordance with the Accomplishment Instructions of Airbus Service Bulletin A300-57-6086, Revision 01, dated April 2, 2002; or Airbus Service Bulletin A300-57-6086, Revision 05, dated January 30, 2012; except as required by paragraph (k) of this AD. As of the effective date of this AD, only Airbus Service Bulletin A300-57-6086, Revision 05, dated January 30, 2012, may be used to accomplish the actions required by this paragraph.

(i) Retained Modification of Angle Fittings of the Wing Center Box

This paragraph restates the requirements of paragraph (l) of AD 2005-23-08, Amendment 39-14366 (70 FR 69056, November 14, 2005). Modify the left and right internal angle fittings of the wing center box. The modification includes performing a rotating probe inspection to detect cracking, repairing cracks, cold expanding holes, and installing medium interference fitting bolts. Perform the modification in accordance with the Accomplishment Instructions of Airbus Service Bulletin A300-57-6050, Revision 03, dated May 31, 2001; and at the applicable time specified by paragraph 1.B.(4), Accomplishment Timescale, of Airbus Service Bulletin A300-57-6050, Revision 03, dated May 31, 2001; except as required by paragraphs (j) and (k) of this AD.

(j) Retained Compliance Time Exception to Service Information Specified in Paragraphs (g), (h), and (i) of This AD

This paragraph restates the requirements of paragraph (m) of AD 2005-23-08, Amendment 39-14366 (70 FR 69056, November 14, 2005). Where the service information specified in paragraphs (g), (h), and (i) of this AD specify a grace period relative to receipt of the service bulletin, this AD requires compliance within the applicable grace period following December 19, 2005 (the effective date of AD 2005-23-08), if the threshold has been exceeded.

(k) Retained Corrective Action Exception to Service Information Specified in Paragraphs (g), (h), and (i) of This AD

This paragraph restates the requirements of paragraph (n) of AD 2005-23-08, Amendment 39-14366 (70 FR 69056, November 14, 2005). If any crack is detected during any inspection required by paragraph (g), (h), or (i) of this AD, and the applicable service information specifies to contact the manufacturer for disposition of certain corrective actions: Prior to further flight, repair in accordance with a method approved by the Manager, International Branch, ANM-116, Transport Airplane Directorate, FAA; or the Direction Générale de l'Aviation Civile (DGAC) (or its delegated agent).

(l) Credit for Previous Actions

(1) This paragraph restates the credit provided by paragraph (o) of AD 2005-23-08, Amendment 39-14366 (70 FR 69056, November 14, 2005): This paragraph provides credit for actions required by paragraph (h) of this AD, if those actions were performed before December 19, 2005 (the effective date of AD 2005-23-08), using Airbus Service Bulletin A300-57-6086, dated June 6, 2000.

(2) This paragraph restates the credit provided by paragraph (p) of AD 2005-23-08, Amendment 39-14366 (70 FR 69056, November 14, 2005): This paragraph provides credit for the modification required by paragraph (i) of this AD, if the modification was performed before December 19, 2005 (the effective date of AD 2005-23-08), using Airbus Service Bulletin A300-57-6050, Revision 02, dated February 10, 2000.

(m) New Requirements of This AD: Repetitive Ultrasonic Inspections and Corrective Action

(1) For airplanes on which Airbus Service Bulletin A300-57-6050, Revision 03, dated May 31, 2001, has not been done, or on which Airbus Modification 10155 has been done: Perform an ultrasonic inspection for cracking of the left- and right-hand aft bottom panel of the center wing box (CWB), in accordance with the Accomplishment Instructions of Airbus Service Bulletin A300-57-6086, Revision 05, dated January 30, 2012. Do the inspection at the later of the times specified in paragraphs (m)(1)(i) and (m)(1)(ii) of this AD. If any cracking is found, before further flight, repair using a method approved by the Manager, International Branch, ANM-116, Transport Airplane Directorate, FAA; or the European Aviation Safety Agency (EASA); or Airbus's EASA Design Organization Approval (DOA). Repeat the inspection thereafter at intervals not to exceed the applicable interval specified in paragraph 1.E.(2), Accomplishment Timescale, of Airbus Service Bulletin A300-57-6086, Revision 05, dated January 30, 2012.

(i) Within 13,400 flight cycles or 34,600 flight hours after the first flight of the airplane, whichever occurs first.

(ii) Within 650 flight cycles or 8 months after the effective date of this AD, whichever occurs first.

(2) For airplanes on which Airbus Service Bulletin A300-57-6050, Revision 03, dated May 31, 2001, has been done: Perform an ultrasonic inspection for cracking of the left- and right-hand aft bottom panel of the center wing box (CWB), in accordance with the Accomplishment Instructions of Airbus Service Bulletin A300-57-6086, Revision 05, dated January 30, 2012. Do the inspection at the later of the times specified in paragraphs (m)(2)(i) and (m)(2)(ii) of this AD. If any cracking is found, before further flight, repair using a method approved by the Manager, International Branch, ANM-116, Transport Airplane Directorate, FAA; or the European Aviation Safety Agency (EASA); or Airbus's EASA Design Organization Approval (DOA). Repeat the inspection thereafter at intervals not to exceed the applicable interval specified in paragraph 1.E.(2), Accomplishment Timescale, of Airbus Service Bulletin A300-57-6086, Revision 05, dated January 30, 2012.

(i) Within 13,400 flight cycles or 34,600 flight hours after accomplishing Airbus Service Bulletin A300-57-6050, whichever occurs first.

(ii) Within 650 flight cycles or 8 months after the effective date of this AD, whichever occurs first.

(n) New Reporting Requirement

Submit a report of the findings (both positive and negative) of the inspection required by paragraph (m) of this AD to the Design Approval Holder, at the applicable time specified in paragraph (n)(1) or (n)(2) of this AD. The report must include the inspection results, a description of any discrepancies found, the airplane serial number, and the number of flight cycles and flight hours on the airplane. The inspection report form in Appendix 01 of Airbus Service Bulletin A300-57-6086, Revision 05, dated January 30, 2012, may be used.

(1) If the inspection was done on or after the effective date of this AD: Submit the report within 30 days after the inspection.

(2) If the inspection was done before the effective date of this AD: Submit the report within 30 days after the effective date of this AD.

(o) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone: 425-227-2125; fax: 425-227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously in accordance with AD 2005-23-08, Amendment 39-14366 (70 FR 69056, November 14, 2005), are approved as AMOCs for the corresponding provision of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(p) Related Information

(1) Refer to Mandatory Continuing Airworthiness Information (MCAI) 2012-0092, dated May 25, 2012; Correction dated June 4, 2012; for related information. You may examine the MCAI in the AD docket on the Internet at http://www.regulations.gov/#!documentDetail;D=FAA-2013-10640002.

(2) Service information identified in this AD that is not incorporated by reference is available at the addresses specified in paragraphs (q)(5) and (q)(6) of this AD.

(q) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on December 11, 2014.

(i) Airbus Service Bulletin A300-57-6049, Revision 07, dated December 22, 2006.

(ii) Airbus Service Bulletin A300-57-6086, Revision 05, dated January 30, 2012.

(4) The following service information was approved for IBR on December 19, 2005 (70 FR 69056, November 14, 2005).

(i) Airbus Service Bulletin A300-57-6049, excluding Appendix 01, Revision 06, dated July 15, 2004.

(ii) Airbus Service Bulletin A300-57-6050, Revision 03, dated May 31, 2001. This document contains the effective pages specified in paragraphs (q)(4)(ii)(A), (q)(4)(ii)(B), (q)(4)(ii)(C), and (q)(4)(ii)(D) of this AD.

(A) Pages 1, 4, 10A through 11, 75, and 76 are identified as Revision 03, dated May 31, 2001.

(B) Pages 2, 8, 9, 17 through 32, 41, 42, 57, 58, 61 through 63, and 77 are identified as Revision 02, dated February 10, 2000.

(C) Pages 3, 5 through 7, 10, 12, 33, 34, 37, 38, 47, 59, and 60 are identified as Revision 01, dated May 31, 1999.

(D) Pages 13 through 16, 35, 36, 39, 40, 43 through 46, 48 through 56, and 64 through 74 are identified as original, dated September 9, 1994.

(iii) Airbus Service Bulletin A300-57-6086, Revision 01, dated April 2, 2002.

(5) The following service information was approved for IBR on July 8, 2002 (67 FR 38193, June 3, 2002).

(i) Airbus Service Bulletin A300-57-6086, dated June 6, 2000.

(ii) Reserved.

(6) For service information identified in this AD, contact Airbus SAS—EAW (Airworthiness Office), 1 Rond Point Maurice Bellonte, 31707 Blagnac Cedex, France; telephone +33 5 61 93 36 96; fax +33 5 61 93 44 51; email account.airworth-eas@airbus.com; Internet http://www.airbus.com.

(7) You may view this service information at the FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on September 24, 2014.
Michael Kaszycki,
Acting Manager, Transport Airplane Directorate, Aircraft Certification Service.

[FR Doc. 2014-26356 Filed 11-5-14; 8:45 am]

BILLING CODE 4910-13-P